FEDERAL COMMUNICATIONS COMMISSION

Sunshine Act Meetings

Open Commission Meeting

Thursday, June 27, 2013

The Federal Communications Commission will hold an Open Meeting on the subjects listed below on Thursday, June 27, 2013. The meeting is scheduled to commence at 10:30 a.m. in Room TW-C305, at 445 12th Street SW., Washington, DC.

ITEM No. | BUREAU | SUBJECT
1 | WIRELINE COMPETITION | TITLE: Modernizing the FCC Form 477 Data Program (WC Docket No. 11-10). SUMMARY: The Commission will consider a Second Report and Order to improve and streamline the collection of broadband subscription and deployment data.
2 | WIRELESS TELE-COMMUNICATIONS | TITLE: Service Rules for Advanced Wireless Services H Block-Implementation Section 6401 of the Middle Class Tax Relief and Job Creation Act of 2012 Related to the 1915-1920 MHz and 1995-2000 MHz Bands (WT Docket No. 12-357). SUMMARY: The Commission will consider a Report and Order with licensing, service, and technical rules in the H Block at 1915-1920 and 1995-2000 MHz, that would help increase the Nation's supply of spectrum for flexible-use services, including mobile broadband.
3 | OFFICE OF GENERAL COUNSEL | TITLE: Implementation of the Telecommunications Act of 1996: Telecommunications Carriers' Use of Customer Proprietary Network Information and Other Customer Information (CC Docket No. 96-115). SUMMARY: The Commission will consider a Declaratory Ruling clarifying that wireless carriers that collect, or direct the collection of, customer proprietary network information (CPNI) on mobile devices must adhere to statutory and regulatory CPNI requirements in protecting that information.
4 | WIRELINE COMPETITION AND WIRELESS TELE-COMMUNICATIONS | TITLE: Presentation on the Status of Universal Service Reform Implementation. SUMMARY: The Wireline Competition Bureau and Wireless Telecommunications Bureau will present an update on universal service reform implementation.
5 | INCENTIVE AUCTION TASK FORCE | TITLE: Presentation on the Status of the Broadcast Incentive Auction. SUMMARY: The Incentive Auction Task Force will present an update on progress towards the television broadcast incentive auction.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov <mailto:fcc504@fcc.gov> or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live <http://www.fcc.gov/live>.

For a fee this meeting can be viewed live over George Mason University's Capitol Connection. The Capitol Connection also will carry the meeting live via the Internet. To purchase these services call (703) 993-3100 or go to www.capitolconnection.gmu.edu <http://www.capitolconnection.gmu.edu>.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-15594 Filed 6-26-13; 11:15 am]

BILLING CODE 6712-01-P